DEPARTMENT OF COMMERCE

National Oceanic and Atmospheric Administration

50 CFR Part 622

[Docket No. 0907271170-0576-03]

RIN 0648-AY10

Fisheries of the Caribbean, Gulf of Mexico, and South Atlantic; Snapper-Grouper Fishery Off the Southern Atlantic States; Amendment 17A

Correction

In rule document 2010-30394, appearing on pages 76874-76890, in the issue of December 9, 2010, make the following correction:

§ 622.41 [Corrected]

On page 76890, in the first column, in § 622.41(n)(2), in the last line, make the following correction:

“28E N. lat.” should read “28° N. lat.”

[FR Doc. C1-2010-30394 Filed 3-8-11; 8:45 am]

BILLING CODE 1505-01-D